FEDERAL COMMUNICATIONS COMMISSION

[PS Docket No. 11-60; DA 21-362; FRS 18927]

Public Safety and Homeland Security Bureau Seeks Comment on Wireless Service Providers' Safety Measures for Their Customers During Disasters in Connection With the Consolidated Appropriations Act of 2021

AGENCY: Federal Communications Commission.

ACTION: Notice.

SUMMARY: In this document, the Public Safety and Homeland Security Bureau (Bureau) seeks comment on recent efforts by mobile wireless service providers to improve network resiliency in order to inform a report to Congress.

DATES: Comments are due on or before April 26, 2021.

ADDRESSES: You may submit comments, identified by PS Docket No. 11-60, by any of the following methods:

• Electronic Filers: Comments may be filed electronically using the internet by accessing the Federal Communications Commission's ECFS website: http://apps.fcc.gov/ecfs/. Follow the instructions for submitting comments.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings at its headquarters. This is a temporary measure taken to help protect the health and safety of individuals, and to mitigate the transmission of COVID19. See FCC Announces Closure of FCC Headquarters Open Window and Change in Hand-Delivery Policy, Public Notice, 35 FCC Rcd 2788 (OMD 2020), https://www.fcc.gov/document/fcc-closes-headquarters-open-window-and-changes-handdelivery-policy.

• All hand-carried documents should be delivered to the Secretary's Office at 9050 Junction Drive, Annapolis Junction, MD 20701.

FOR FURTHER INFORMATION CONTACT: Amanda Farenthold, Attorney Advisor, Cybersecurity and Communications Reliability Division, Public Safety and Homeland Security Bureau, (202) 418-1592, Amanda.Farenthold@fcc.gov.

SUPPLEMENTARY INFORMATION: This is a summary of the Commission's document, Public Notice, DA 21-362, in PS Docket Nos. 11-60, released on March 26, 2021. The full text of this document is available for public inspection and can be downloaded at https://docs.fcc.gov/public/attachments/DA-21-362A1.pdf or by using the Commission's ECFS web page at www.fcc.gov/ecfs.

People with Disabilities: To request materials in accessible formats for people with disabilities (braille, large print, electronic files, audio format), send an email to fcc504@fcc.gov or call the Consumer & Governmental Affairs Bureau at 202-418-0530 (voice).

Ex Parte Rules: The proceeding this petition initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding and must be filed in their native format (e.g., .doc, .xml, .ppt, searchable .pdf). Participants in this proceeding should familiarize themselves with the Commission's ex parte rules.

Synopsis

On March 26, 2021, the Bureau released a Public Notice seeking comment on specific measures mobile wireless service providers have taken in recent years to improve network resilience during natural disasters, in order to inform a report to Congress, as contemplated by the Explanatory Statement accompanying the Consolidated Appropriations Act of 2021. The Explanatory Statement accompanying the Act expressed “concer[n] about the resiliency of wireless phone networks during natural disasters, including wildfires,” and sought a report from the Commission “on the type of safety measures wireless carriers have for their customers.”

The Bureau asks commenters to address how mobile wireless service providers have improved network reliability in the face of natural disasters. How have these efforts have improved the public's safety during natural disasters? Overall, what resiliency measures are most effective? How can these measures be improved? How have customers responded to new measures? The Bureau specifically seeks comment on steps wireless mobile providers have taken to ensure network resiliency, including but not limited to: Back up power in areas prone to planned power outages to mitigate wildfires; pre-storm staging processes; roaming agreements that can be activated quickly following a natural disaster; effective coordination with power companies, municipalities, and backhaul providers; diversification of backhaul options in disaster prone areas; availability of deployable network assets; network infrastructure sharing among operators during natural disasters; and communicating disaster-related information with customers, particularly members of vulnerable populations, including individuals who are low-income, members of the disabilities community, or non-English speaking. Are there successful network resiliency policy measures for fixed networks that have been applied to wireless networks, especially given that much of the backhaul for wireline providers is the same as wireless providers? The Bureau also seeks comment on cost and benefit issues associated with implementing measures to maintain and improve resiliency of mobile wireless networks. associated with maintaining and improving resiliency.

The Bureau intends to use these responses to update the Commission's existing record on wireless resiliency and help inform its report to Congress.

Federal Communications Commission.
Lisa Fowlkes
Chief, Public Safety and Homeland Security Bureau.

[FR Doc. 2021-06925 Filed 4-2-21; 8:45 am]

BILLING CODE 6712-01-P